DEPARTMENT OF LABOR

Employment and Training Administration

[TA-W-54,366]

Summitville Tiles, Inc., Summitville, OH; Notice of Termination of Investigation

Pursuant to section 221 of the Trade Act of 1974, as amended, an investigation was initiated on February 26, 2004, in response to a petition filed by a company official on behalf of workers at Summitville Tiles, Inc., Summitville, Ohio.

The petitioner has requested that the petition be withdrawn. Consequently, the investigation has been terminated.

Signed at Washington, DC, this 24th day of March, 2004.
Richard Church,
Certifying Officer, Division of Trade Adjustment Assistance.

[FR Doc. 04-7578 Filed 4-2-04; 8:45 am]

BILLING CODE 4510-30-P